NATIONAL SCIENCE FOUNDATION

Committee Management; Notice of Establishment

The Director of the National Science Foundation has determined that the establishment of the Proposal Review Panel for Emerging Frontiers in Research and Innovation necessary and in the public interest in connection with the performance of duties imposed upon the National Science Foundation (NSF), by 42 U.S.C. 1861, et seq. This determination follows consultation with the Committee Management Secretariat, General Services Administration.

Name of Committee: Proposal Review Panel for Emerging Frontiers in Research and Innovation (#34558).

Purpose: advise the National Science Foundation on the merit of proposals of proposals requesting financial support for research and research-related activities under the purview of the Office of Emerging Frontiers in Research and Innovation located in the Directorate of Engineering.

Responsible NSF Official: Sohi Rastegar, Office Director, Emerging Frontiers in Research and Innovation, National Science Foundation, 4201 Wilson Boulevard, Arlington, VA 22230. Telephone: 703/292-8305.

Dated: February 13, 2008.
Susanne Bolton,
Committee Management Officer.

[FR Doc. E8-2988 Filed 2-15-08; 8:45 am]

BILLING CODE 7555-01-P